DEPARTMENT OF THE INTERIOR

Fish and Wildlife Service

Conference of the Parties to the Convention on International Trade in Endangered Species of Wild Fauna and Flora (CITES); Fourteenth Regular Meeting; Provisional Agenda; Announcement of Public Meeting

AGENCY: Fish and Wildlife Service, Interior.

ACTION: Notice.

SUMMARY: We, the United States, as a Party to the Convention on International Trade in Endangered Species of Wild Fauna and Flora (CITES), will attend the fourteenth regular meeting of the Conference of the Parties to CITES (CoP14) in The Hague, The Netherlands, June 3-15, 2007. Currently, the United States is developing its negotiating positions on proposed resolutions, decisions, and amendments to the CITES Appendices (species proposals), as well as other agenda items that have been submitted by other Party countries and the CITES Secretariat for consideration at CoP14. With this notice we announce the provisional agenda for CoP14, solicit your comments on the items on the provisional agenda, and announce a public meeting to discuss the items on the provisional agenda.

DATES: The public meeting will be held on April 9, 2007, at 1:30 p.m. In developing the U.S. negotiating positions on proposed resolutions, decisions, and species proposals, and other agenda items submitted by other Party countries and the CITES Secretariat for consideration at CoP14, we will consider written information and comments you submit if we receive them by April 23, 2007.

ADDRESSES: Public Meeting: The public meeting will be held in the Rachel Carson Room at the Department of the Interior at 18th and C Streets, NW., Washington, DC. Directions to the building can be obtained by contacting the Division of Management Authority (see FOR FURTHER INFORMATION CONTACT, below). Due to building security at the Department of the Interior, persons planning to attend the meeting must notify the Division of Management Authority by March 30, 2007, to allow us sufficient time to provide the building security staff with a list of persons planning to attend. For more information, see “Announcement of Public Meeting” under SUPPLEMENTARY INFORMATION.

Comment Submission: Comments pertaining to proposed resolutions, decisions, and/or agenda items should be sent to the Division of Management Authority; U.S. Fish and Wildlife Service; 4401 North Fairfax Drive; Room 700; Arlington, VA 22203; or via E-mail at: cop14@fws.gov; or via fax at: 703-358-2298. Comments pertaining to species proposals should be sent to the Division of Scientific Authority; U.S. Fish and Wildlife Service; 4401 North Fairfax Drive; Room 750; Arlington, VA 22203; or via E-mail at: scientificauthority@fws.gov; or via fax at: 703-358-2276. Comments and materials received will be available for public inspection, by appointment, from 8 a.m. to 4 p.m., Monday through Friday, at either the Division of Management Authority or the Division of Scientific Authority.

FOR FURTHER INFORMATION CONTACT: For information pertaining to proposed resolutions, decisions, and agenda items contact: Acting Chief, Branch of CITES Operations, Division of Management Authority; phone 703-358-2095; fax 703-358-2298; E-mail: cop14@fws.gov. For information pertaining to species proposals contact: Acting Chief, Division of Scientific Authority; phone 703-358-1708; fax 703-358-2276; E-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.shtml. Currently, 169 countries, including the United States, are Parties to CITES. The Convention calls for biennial meetings of the Conference of the Parties, which reviews its implementation, makes provisions enabling the CITES Secretariat in Switzerland to carry out its functions, considers amendments to the list of species in Appendices I and II, considers reports presented by the Secretariat, and makes recommendations for the improved effectiveness of CITES. Any country that is a Party to CITES may propose amendments to Appendices I and II, and draft resolutions, and decisions, and/or agenda items for consideration by all the Parties.

This is our third in a series of Federal Register notices that, together with announced public meetings, provide you with an opportunity to participate in the development of the U.S. negotiating positions for CoP14. We published our first CoP14-related Federal Register notice on January 20, 2006 (71 FR 3319), and with it we requested information and recommendations on species proposals and proposed resolutions, decisions, and agenda items for the United States to consider submitting for consideration at CoP14. We published our second such Federal Register notice on November 7, 2006 (71 FR 65126), and with it we requested information and recommendations on species proposals, proposed resolutions, proposed decisions, and other agenda items that the United States was considering submitting for consideration at CoP14. You may obtain information on the above Federal Register notices from the following sources: for information on proposed resolutions, decisions, and agenda items, contact the Division of Management Authority (ADDRESSES); and for information on species proposals, contact the Division of Scientific Authority (ADDRESSES). Our regulations governing this public process are found in 50 CFR 23.31-23.39.

CoP14 is scheduled to be held in The Hague, The Netherlands, June 3-15, 2007. On January 4, 2007, the United States submitted to the CITES Secretariat, for consideration at CoP14, its species proposals, proposed resolutions, proposed decisions, and other agenda items. These documents are available on our Web site at http://www.fws.gov/international.

Announcement of Provisional Agenda for CoP14

The provisional agenda for CoP14 is currently available on the CITES Secretariat's Web site at http://www.cites.org/eng/cop/14/doc/index.shtml. The working documents associated with the items on the provisional agenda, such as proposed resolutions, proposed decisions, and discussion documents, are also available on the Secretariat's Web site. To view the working document associated with a particular agenda item, access the provisional agenda at the above Web site, locate the particular agenda item, and click on the document link for that agenda item in the column entitled “Document.” Finally, the species proposals that will be considered at CoP14 are available on the Secretariat's Web site at http://www.cites.org/eng/cop/14/raw_props.shtml. We look forward to receiving your comments on the items on the provisional agenda.

Announcement of Public Meeting

We will hold a public meeting to discuss with you the items on the provisional agenda for CoP14. The public meeting will be held on the date specified in DATES at the address specified in ADDRESSES. You can obtain directions to the building by contacting the Division of Management Authority (see FOR FURTHER INFORMATION CONTACT, above). Please note that the Rachel Carson Room is accessible to the handicapped and all persons planning to attend the meeting will be required to present photo identification when entering the building. Due to building security in the Department of the Interior, persons planning to attend the meeting must notify the Division of Management Authority by March 30, 2007. Persons who plan to attend the meeting and who require interpretation for the hearing impaired must notify the Division of Management Authority by March 21, 2007.

Future Actions

Through an additional notice and Web site posting in advance of CoP14, we will inform you about tentative U.S. negotiating positions on proposed resolutions, proposed decisions, species proposals, and other agenda items that were submitted by other Party countries and the CITES Secretariat for consideration at CoP14.

Authors: The primary authors of this notice are Frank Kohn and Clifton Horton, Division of Management Authority; under the authority of the U.S. Endangered Species Act of 1973, as amended (16 U.S.C. 1531 et seq.).

Dated: February 2, 2007.
Mamie A. Parker,
Acting Director.

[FR Doc. E7-2872 Filed 2-20-07; 8:45 am]

BILLING CODE 4310-55-P